NUCLEAR REGULATORY COMMISSION

Draft Construction Inspection Program for Reactors Built Under 10 CFR Part 52; Reopening of Comment Period

AGENCY: Nuclear Regulatory Commission.

ACTION: Draft document; reopening of the comment period.

SUMMARY: On May 30, 2003, the Nuclear Regulatory Commission (NRC) issued the “Draft 10 CFR Construction Inspection Program Framework Document,” which set forth the basis for the construction inspection program for reactors built under 10 CFR part 52. The framework document details the proposed audits and inspections to be conducted by the NRC during the Early Site Permit (ESP) and Combined License (COL) phases. The document also discusses how the NRC staff will verify satisfactory completion of the inspections, tests, analyses, and acceptance criteria (ITAAC) and review operational programs. The original request for comments was contained in an announcement of a public workshop on issues related to the construction inspection program for reactors built under 10 CFR part 52 (68 FR 34012). The comment period expired on September 15, 2003. Comment periods for several other documents related to construction of reactors under 10 CFR part 52 were also occurring during the same time period. In order to allow all stakeholders an opportunity to provide comments on the Construction Inspection Program Framework Document, the Commission has decided to reopen the comment period until October 30, 2003. The draft document is available for public inspection in the NRC Public Document Room located at One White Flint North, 11555 Rockville Pike, Public File Area O1 F21, Rockville, Maryland, or from the Publicly Available Records (PARS) component of NRC's Agencywide Documents Access and Management System (ADAMS) (#ADAMS ML031400849). ADAMS is accessible from the NRC Web site, htp://www.nrc.gov, in the Public Electronic Reading Room. For more information, contact the NRC Public Document Room (PDR) reference staff at 1-800-397-4209 or 202-634-3273 or by e-mail to pdr@nrc.gov.

DATES: Submit comments on the Draft Construction Inspection Program Framework Document by October 30, 2003. Comments received after the due date will be considered if it is practical to do so, but the Commission is able to assure consideration only for comments received on or before this date.

ADDRESSES: Submit written comments on the draft guidance to: Chief, Rules and Directives Branch, Division of Administrative Services, Office of Administration, Mail Stop T6-D59, U.S. Nuclear Regulatory Commission, Washington, DC 20555-0001. Comments may be hand-delivered to the NRC at 11545 Rockville Pike, Rockville, Maryland, between 7:45 a.m. and 4:15 p.m. on Federal workdays. Comments may be submitted electronically by the Internet to the NRC at nrcrep@nrc.gov. All comments received by the Commission, including those made by Federal, State, and local agencies, Indian tribes, and other interested persons, will be made available electronically at the Commission's Public Document Room in Rockville, Maryland, or from the Publicly Available Records (PARS) component of NRC's document system (ADAMS).

FOR FURTHER INFORMATION, CONTACT: Ms. Mary Ann M. Ashley, Inspection Program Branch, U.S. Nuclear Regulatory Commission, Washington, DC 20555-0001. Ms. Ashley may be reached at (301) 415-1073 or by e-mail at mab@nrc.gov.

Dated at Rockville, Maryland, this 15th day of September 2003.
For the Nuclear Regulatory Commission.
Stuart A. Richards,
Chief, Inspection Program Branch, Division of Inspection Program Management, Office of Nuclear Reactor Regulation.

[FR Doc. 03-24203 Filed 9-24-03; 8:45 am]

BILLING CODE 7590-01-P